FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 21, 2019.

A. Federal Reserve Bank of Minneapolis (Mark A. Rauzi, Vice President), 90 Hennepin Avenue, Minneapolis, Minnesota 55480-0291:

1. Lana Krause, Winnebago, Minnesota; to retain, individually voting shares of Krause Financial, Inc., Winnebago, Minnesota (Company), and thereby indirectly retain shares of First Financial Bank in Winnebago, Winnebago, Minnesota (Bank). In addition, Amanda Hair, Sioux Falls, South Dakota; to join the Krause family shareholder group acting in concert, by retaining voting shares of Company and thereby indirectly retaining shares of Bank.

B. Federal Reserve Bank of Dallas (Robert L. Triplett III, Senior Vice President) 2200 North Pearl Street, Dallas, Texas 75201-2272:

1. Blayn Barnard Smith, Dallas, Texas; Mary Blayr Garland Barnard, Oglesby, Texas; Douglas Landrum, Oglesby, Texas; the Zachary Sterling Jackson 2009 Trust, Dallas, Texas; the Mitchell Scott Jackson 2003 Trust, Dallas, Texas; the Hannah Elizabeth Jackson 2005 Trust, Dallas, Texas; Dana Donahoe, Dallas, Texas; and the minor children of Mary Blayr Garland Barnard, as a group acting in concert; to acquire voting shares of National United Bancshares, Inc., and thereby indirectly acquire shares of National United, both of Gatesville, Texas.

Board of Governors of the Federal Reserve System, May 1, 2019.
Yao-Chin Chao,
Assistant Secretary of the Board.

[FR Doc. 2019-09216 Filed 5-3-19; 8:45 am]

BILLING CODE P